OVERSEAS PRIVATE INVESTMENT CORPORATION

Submission for OMB Review

AGENCY: Overseas Private Investment Corporation (OPIC).

ACTION: Request for approval.

SUMMARY: Under the provisions of the Paperwork Reduction Act (44 U.S.C. chapter 35), agencies are required to publish a Notice in the Federal Register notifying the public that the agency has prepared an information collection for OMB review and approval.

DATES: This 30-day notice is to inform the public, that this collection is being submitted to OMB for approval.

ADDRESSES: Copies of the subject form may be obtained from the Agency submitting officer.

FOR FURTHER INFORMATION CONTACT: OPIC Agency Submitting Officer: Essie Bryant, Record Manager, Overseas Private Investment Corporation, 1100 New York Avenue, NW., Washington, DC 20527; (202) 336-8563.

Summary Form Under Review

Type of Request: New form.

Title: Short—Form Application for Political Risk Insurance.

Form Number: OPIC-247.

Frequency of Use: Once per investor per project.

Type of Respondents: Business or other institution (except farms); individuals.

Standard Industrial Classification Codes: All.

Description of Affected Public: U.S. companies or citizens investing overseas.

Reporting Hours: 2 hours per project.

Number of Responses: 50 per year.

Federal Cost: $5,000.

Authority for Information Collection: Sections 231, 234(a), 239(d), and 240A of the Foreign Assistance Act of 1961, as amended.

Abstract (Needs and Uses): The application is the document used by OPIC to determine the investor's and the project's eligibility for political risk insurance when used in conjunction with a completed application for OPIC financing.

Dated: June 23, 2011.
Nicole Cadiente
Administrative Counsel, Department of Legal Affairs.

[FR Doc. 2011-16155 Filed 6-28-11; 8:45 am]

BILLING CODE M